DEPARTMENT OF THE INTERIOR

National Park Service

Flight 93 National Memorial Advisory Commission

AGENCY: National Park Service, Interior.

ACTION: Notice of meeting.

SUMMARY: This notice sets forth the date of the May 5, 2012, for meeting of the Flight 93 Advisory Commission.

DATES: The public meeting of the Advisory Commission will be held on Saturday, May 5, 2012, from 10 a.m. to 1 p.m. (Eastern).

Location: The meeting will be held at the Flight 93 National Memorial Office, 109 West Main Street, Suite 104, Somerset, PA 15501.

Agenda

The meeting will consist of:

1. Opening of Meeting Review and Approval of Commission Minutes from the meeting before.

2. Reports.

3. Old Business.

4. New Business.

5. Public Comments.

6. Closing Remarks.

FOR FURTHER INFORMATION CONTACT: Jeffrey P. Reinbold, Superintendent, Flight 93 National Memorial, P.O. Box 911, Shanksville, PA 15560, 814.893.6322.

SUPPLEMENTARY INFORMATION: The meeting will be open to the public. Any member of the public may file with the Commission a written statement concerning agenda items. Address all statements to: Flight 93 Advisory Commission, P.O. Box 911, Shanksville, PA 15560. Before including your address, phone number, email address, or other personal identifying information in your comment, you should be aware that your entire comment—including your personal identifying information—may be made publicly available at any time. While you can ask us in your comment to withhold your personal identifying information from public review, we cannot guarantee that we will be able to do so.

Dated: March 27, 2012.
Jeffrey P. Reinbold,
Superintendent, Flight 93 National Memorial.

[FR Doc. 2012-9621 Filed 4-20-12; 8:45 am]

BILLING CODE P